DEPARTMENT OF ENERGY

Federal Energy Regulatory Commission

[Docket No. RP02-462-002]

Southern Natural Gas Company; Notice of Compliance Filing

November 29, 2002.

Take notice that on November 25, 2002, Southern Natural Gas Company (Southern) tendered for filing as part of its FERC Gas Tariff, Original Volume No. 1, Fourth Revised Sheet No. 126A, with an effective date of October 1, 2002.

Southern states that the purpose of this filing is to implement certain modifications to its tariff sheet in compliance with the Commission's Order issued on November 14, 2002, in the captioned proceeding to provide that Title Transfer Tracking Service Providers are subject to the standard NAESB intraday nomination cycles.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-30822 Filed 12-5-02; 8:45 am]

BILLING CODE 6717-01-P